DEPARTMENT OF HOUSING AND URBAN DEVELOPMENT

[Docket No. FR-5604-N-06]

Notice of Proposed Information Collection: Comment Request; Form HUD-40221(rev) “LOCCS/VRS Self-Help Homeownership Opportunity Program Payment Voucher”

AGENCY: Office of the Assistant Secretary for Community Planning and Development, HUD.

ACTION: Notice of proposed information collection.

SUMMARY: The proposed information collection requirement described below will be submitted to the Office of Management and Budget (OMB) for review, as required by the Paperwork Reduction Act. The Department is soliciting public comments on the subject proposal.

DATES: Comment Due Date: July 23, 2012.

ADDRESSES: Interested persons are invited to submit comments regarding this proposal. Comments should refer to the proposal by name and/or OMB Control Number and should be sent to: Rudene Thomas, Reports Liaison Officer, U.S. Department or Housing and Urban Development, 451 Seventh Street SW., Room 7233, Washington, DC 20410-4500.

FOR FURTHER INFORMATION CONTACT: Ginger Macomber, SHOP Program Manager, Office of Affordable Housing Programs, U.S. Department of Housing and Urban Development, 451 Seventh Street SW., Room 7162, Washington, DC 20410-4500; telephone 202-402-4605 (this is not a toll-free number) or by email at ginger.macomber@hud.gov.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

The Self-Help Homeownership Opportunity Program (SHOP) is authorized by the Housing Opportunity Program Extension Act of 1996, Section 11. The purpose of SHOP is to provide grant funds to national and regional non-profit organizations to facilitate and encourage innovative homeownership opportunities on a national, geographically diverse basis through the provision of self-help homeownership housing programs. HUD uses the Line of Credit Control System (LOCCS) to disburse SHOP Grant funds from the U.S. Treasury to SHOP Grantees. SHOP Grantees use HUD's Voice Response System (VRS) to request a drawdown of SHOP Grant funds from LOCCS via a touchtone telephone. Grantees must complete a “LOCCS/VRS Self-help Homeownership Opportunity Program Payment Voucher” prior to requesting a drawdown of funds through LOCCS/VRS.

Title of Proposal: Form HUD-40221(rev) “LOCCS/VRS Self-help Homeownership Opportunity Program Payment Voucher”.

OMB Control Number: 2506-0157.

Description of the Need for the Information and Proposed Use: An extension of the existing PRA approval is needed to permit SHOP Grantees to use a revised and updated SHOP Form HUD-40221(rev) “LOCCS/VRS Self-help Homeownership Opportunity Program Payment Voucher” to drawdown SHOP Grant funds through LOCCS/VRS.

Agency Form Numbers: Form HUD-40221(rev) “LOCCS/VRS Self-help Homeownership Opportunity Program Payment Voucher.”

Members of Affected Public: National and regional non-profit self-help housing organizations (including consortia) that have been awarded SHOP grant funds (the “Grantee'').

Estimation of the total number of hours needed to prepare the information collection including number of respondents, hours per response, frequency of response, and total hours of response for all respondents. Information will be collected once per Grantee for each request to drawdown SHOP Grant funds. The total estimated average hourly burden for this information collection is 30 minutes to prepare each Form HUD-40221(rev) “LOCCS/VRS Self-help Homeownership Opportunity Program Payment Voucher,” including signatures. The frequency of the information collection will vary based on the size of the Grantee's SHOP Grant award and the Grantee's use of its Grant funds. Assuming biweekly drawdown requests and a three year Grant term, the average number of collections is 72 per Grantee. Hourly burden estimates are based on Grantee input and HUD's experience.

Paperwork requirement | Number of respondents | Frequency | Hours per response | Total annual hours
HUD-424 | 6 | varies | .5 | varies
Total Annual Hour Burden | 6 | 72 | 36 | 216

Frequency of Submission: As needed by the SHOP Grantee to drawdown SHOP Grant funds through LOCCS/VRS.

Status of the Proposed Information Collection: Extension of a currently approved collection OMB control number 2506-0157.

Authority: Section 3506 of the Paperwork Reduction Act of 1995, 44 U.S.C. Chapter 35, as amended.

Dated: May 17, 2012.
Clifford Taffet,
General Deputy Assistant Secretary for Community Planning and Development.

[FR Doc. 2012-12546 Filed 5-22-12; 8:45 am]

BILLING CODE 4210-67-P